ENVIRONMENTAL PROTECTION AGENCY

40 CFR Part 180

[OPP-301146 FRL-6793-8]

RIN 2070-AB78

Extension of Tolerances for Emergency Exemptions (Multiple Chemicals)

AGENCY: Environmental Protection Agency (EPA).

ACTION: Final rule.

SUMMARY: This regulation extends time-limited tolerances for the pesticides listed in Unit II. of the SUPPLEMENTARY INFORMATION. These actions are in response to EPA's granting of emergency exemptions under section 18 of the Federal Insecticide, Fungicide, and Rodenticide Act authorizing use of these pesticides. Section 408(l)(6) of the Federal Food, Drug, and Cosmetic Act (FFDCA) requires EPA to establish a time-limited tolerance or exemption from the requirement for a tolerance for pesticide chemical residues in food that will result from the use of a pesticide under an emergency exemption granted by EPA.

DATES: This regulation is effective July 19, 2001. Objections and requests for hearings, identified by docket control number OPP-301146, must be received by EPA on or before August 20, 2001.

ADDRESSES: Written objections and hearing requests may be submitted by mail, in person, or by courier. Please follow the detailed instructions for each method as provided in Unit III. of the SUPPLMENTARY INFORMATION. To ensure proper receipt by EPA, your objections and hearing requests must identify docket control number OPP-301146 in the subject line on the first page of your response.

FOR FURTHER INFORMATION CONTACT: See the listing below for the name of a specific contact person. The following information applies to all contact persons: Emergency Response Team, Registration Division (7505C), Office of Pesticide Programs, Environmental Protection Agency, 1200 Pennsylvania Ave., NW., Washington, DC 20460; telephone number: (703) 308-9366.

Pesticide | CFR cite | Contact person/e-mail address
Avermectin | 40 CFR 180.449 | Beth Edwards/edwards.beth@epa.gov
Paraquat | 40 CFR 180.205 | Libby Pemberton/pemberton.libby@epa.gov
Dimethomorph | 40 CFR 180.493 |
Propamocarb hydrochloride | 40 CFR 180.499 |
Cymoxanil | 40 CFR 180.503 |
Fenbuconazole | 40 CFR 180.480 | Shaja R. Brothers/brothers.shaja@epa.gov
Fluroxypyr 1-Methylheptyl Ester | 40 CFR 180.535 | Andrew Ertman/ertman.andrew@epa.gov
Ethalfluralin | 40 CFR 180.416 | Barbara Madden/madden.barbara@epa.gov
Propiconazole | 40 CFR 180.434 |
Myclobutanil | 40 CFR 180.443 |
Tebuconazole | 40 CFR 180.474 |
Tebufenozide | 40 CFR 180.482 |
Imazamox | 40 CFR 180.508 |
Tetraconazole | 40 CFR 180.557 |

SUPPLEMENTARY INFORMATION:

I. General Information

A. Does this Action Apply to Me?

You may be affected by this action if you are an agricultural producer, food manufacturer, or pesticide manufacturer. Potentially affected categories and entities may include, but are not limited to:

Categories | NAICS Codes | Examples of Potentially Affected Entities
Industry | 111 | Crop production
| 112 | Animal production
| 311 | Food manufacturing
| 32532 | Pesticide manufacturing

This listing is not intended to be exhaustive, but rather provides a guide for readers regarding entities likely to be affected by this action. Other types of entities not listed in the table could also be affected. The North American Industrial Classification System (NAICS) codes have been provided to assist you and others in determining whether or not this action might apply to certain entities. If you have questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/. A frequently updated electronic version of 40 CFR part 180 is available at http://www.access.gpo.gov/nara/cfr/cfrhtml_00/Title_40/40cfr180 _0 0.html, a beta site currently under development.

2. In person. The Agency has established an official record for this action under docket control number OPP-301146. The official record consists of the documents specifically referenced in this action, and other information related to this action, including any information claimed as Confidential Business Information (CBI). This official record includes the documents that are physically located in the docket, as well as the documents that are referenced in those documents. The public version of the official record does not include any information claimed as CBI. The public version of the official record, which includes printed, paper versions of any electronic comments submitted during an applicable comment period is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

II. Background and Statutory Findings

EPA published final rules in the Federal Register for each chemical/commodity listed below. The initial issuance of these final rules announced that EPA, on its own initiative, under section 408 of the FFDCA, 21 U.S.C. 346a, as amended by the Food Quality Protection Act of 1996 (FQPA) (Public Law 104-170) was establishing time-limited tolerances.

EPA established the tolerances because section 408(l)(6) of the FFDCA requires EPA to establish a time-limited tolerance or exemption from the requirement for a tolerance for pesticide chemical residues in food that will result from the use of a pesticide under an emergency exemption granted by EPA under section 18 of the Federal Insecticide, Fungicide, and Rodenticide Act (FIFRA). Such tolerances can be established without providing notice or time for public comment.

EPA received requests to extend the use of these chemicals for this year's growing season. After having reviewed these submissions, EPA concurs that emergency conditions exist. EPA assessed the potential risks presented by residues for each chemical/commodity. In doing so, EPA considered the safety standard in FFDCA section 408(b)(2), and decided that the necessary tolerance under FFDCA section 408(l)(6) would be consistent with the safety standard and with FIFRA section 18.

The data and other relevant material have been evaluated and discussed in the final rule originally published to support these uses. Based on that data and information considered, the Agency reaffirms that extension of these time-limited tolerances will continue to meet the requirements of section 408(l)(6). Therefore, the time-limited tolerances are extended until the date listed below. EPA will publish a document in the Federal Register to remove the revoked tolerances from the Code of Federal Regulations (CFR). Although these tolerances will expire and are revoked on the date listed, under FFDCA section 408(l)(5), residues of the pesticide not in excess of the amounts specified in the tolerance remaining in or on the commodity after that date will not be unlawful, provided the residue is present as a result of an application or use of a pesticide at a time and in a manner that was lawful under FIFRA, the tolerance was in place at the time of the application, and the residue does not exceed the level that was authorized by the tolerance. EPA will take action to revoke these tolerances earlier if any experience with, scientific data on, or other relevant information on these pesticides indicate that the residues are not safe.

Tolerances for the use of the following pesticide chemicals on specific commodities are being extended:

1. Paraquat. EPA has authorized under FIFRA section 18 the use of paraquat on green peas grown for seed and dry peas for control of weeds in Idaho, North Dakota, and Oregon. This regulation extends a time-limited tolerance for residues of the herbicide/desiccant/defoliant paraquat (1,1'-dimethyl-4,4'-bipyridinium-ion) derived from application of either the bis (methyl sulfate) or the dichloride salt (both calculated as the cation) in or on dry peas at 0.3 parts per million (ppm) for an additional 25½ month-period. This tolerance will expire and is revoked on December 31, 2003. A time-limited tolerance was originally published in the Federal Registeron August 29, 1997 (62 FR 45748) (FRL-5739-8).

2. Ethalfluralin. EPA has authorized under FIFRA section 18 the use of ethalfluralin on canola for control of kochia in Montana, Minnesota, and North Dakota. This regulation extends a time-limited tolerance for residues of the herbicide ethalfluralin N-ethyl- N-(2-methyl-2-propenyl)-2,6-dinitro-4-(trifluoromethyl)benzenamine in or on canola at 0.05 ppm for an additional 2-year period. This tolerance will expire and is revoked on Decmber 31, 2003. A time-limited tolerance was originally published in the Federal Register on December 17, 1997 (62 FR 66008) (FRL-5756-4).

3. Propiconazole. EPA has authorized under FIFRA section 18 the use of propiconazole on: cranberries for control of cottonball disease in Washington and Wisconsin; and dry beans for the control of rust in Minnesota and North Dakota. This regulation extends time-limited tolerances for combined residues of the fungicide propiconazole, 1-[[2-(2,4-dichlorophenyl)-4-propyl-1,3-dioxolan-2-yl]methyl]-1H-1,2,4-triazole and its metabolite determined as 2,4-dichlorobenzoic acid in or on cranberries at 1.0 ppm, dry beans at 0.5 ppm, dry bean forage at 8 ppm, and dry bean hay at 8 ppm for an additional 2-year period. These tolerances will expire and are revoked on December 31, 2003. A time-limited tolerance for cranberries was originally published in the Federal Register on April 11, 1997 (62 FR 17710) (FRL-5600-5). Time-limited tolerances for dry beans, dry bean forage and dry bean hay were originally published in the Federal Register on June 13, 1997 (62 FR 32224) (FRL-5718-8).

4. Myclobutanil. EPA has authorized under FIFRA section 18 the use of myclobutanil on hops for control of powdery mildew in Idaho, Oregon and Washington; on artichokes to control powdery mildew in California; and on peppers (bell and non-bell) to control powdery mildew in Califonia and New Mexico. This regulation extends a time-limited tolerance for residues of the fungicide myclobutanil in or on hop cones, dried at 5.0 ppm for an additional 2-year period. This tolerance will expire and is revoked on December 31, 2003. A time-limited tolerance was originally published in the Federal Register on July 10, 1998 (63 FR 37289) (FRL-5798-6). This regulation also extends time-limited tolerances for residues of myclobutanil in or on artichoke at 1.0 ppm and peppers (bell and non-bell) at 1.0 ppm for an additional 11-month period. These tolerances will expire and are revoked on June 30, 2003. Time-limited tolerances were originally published in the Federal Register on September 16, 1998 (63 FR 49472) (FRL-6025-1).

5. Avermectin. EPA has authorized under FIFRA section 18 the use of avermectin on basil for control of leafminers in California. This regulation extends a time-limited tolerance for residues of the miticide avermectin B1 and its delta-8,9-isomer in or on basil at 0.05 ppm for an additional 2-years and 5-months. This tolerance will expire and is revoked on December 31, 2003. A time-limited tolerance was originally published in the Federal Register on August 19, 1997 (62 FR 1466) (FRL-5737-1).

6. Tebuconazole. EPA has authorized under FIFRA section 18 the use of tebuconazole on hops for control of powdery mildew in Idaho, Oregon and Washington. This regulation extends a time-limited tolerance for residues of the fungicide tebuconazole; alpha-[2-(4-chlorophenyl)-ethyl]-alpha-(1,1-dimethylethyl)-1H-1,2,4-triazole-1-ethanol in or on hops at 4.0 ppm for an additional 2-year period. This tolerance will expire and is revoked on December 31, 2003. A time-limited tolerance was originally published in the Federal Register on December 2, 1998 (63 FR 66449) (FRL-6036-3).

7. Fenbuconazole. EPA has authorized under FIFRA section 18 the use of (alpha-[2-4-chlorophenyl)-ethyl]alpha-phenyl-3-(1H-1,2,4-triazole)-1-propanenitrile on grapefruit for control of greasy spot in Florida. This regulation extends time-limited tolerances for combined residues of the fungicide (alpha-[2-4-chlorophenyl)-ethyl]alpha-phenyl-3-(1H-1,2,4-triazole)-1-propanenitrile and its metabolites cis-5-(4-chlorophenyl)-dihydro-3-phenyl-3-(1H-1,2,4-triazole-1-ylmethyl)-2-3H-furanone and trans-5(4- chlorophenyl)dihydro-3-phenyl-3-(1H1,2,4-triazole-1-ylmethyl-2-3H-furanone in or on whole grapefruit at 0.5 ppm, dried grapefruit pulp at 4.0 ppm, grapefruit oil at 35 ppm, and meat and meat by products of cattle, goats, hogs, horses, and sheep at 0.1 ppm for an additional 2-years period. These tolerances will expire and are revoked on December 31,2003. Time-limited tolerances were originally published in the Federal Register on July 26, 2000 (65 FR 45920) (FRL-6596-6).

8. Tebufenozide. EPA has authorized under FIFRA section 18 the use of tebufenozide on: grapes for the control of grape leaffolder and omnivorous leafroller in California; and longan and lychee for control of Lychee webworm in Florida. This regulation extends time-limited tolerances for residues of the insecticide tebufenozide, benzoic acid, 3,5-dimethyl-1-(1,1-dimethylethyl)-2-(4-ethylbenzoyl)hydrazide in or on grapes at 3 ppm and lychee and longan at 1.0 ppm for an additional 2-year period. These tolerances will expire and are revoked on December 31, 2003. A time-limited tolerance was originally published for grapes in the Federal Register on July 6, 2000 (65 FR 41594) (FRL-6590-1). Time-limited tolerances were originally published for longan and lychee in the Federal Register on March 17, 1999 (64 FR 13088) (FRL-6065-2).

9. Dimethomorph. EPA has authorized under FIFRA section 18 the use of dimethomorph on squash, cantaloupe, watermelon, and cucumber for control of phytophthora capsici in Delaware, Illinois, Michigan, and Wisconsin. This regulation extends time-limited tolerances for residues of the fungicide dimethomorph in or on squash, cantaloupe, watermelon, and cucumber at 1.0 ppm for an additional 2-year, 3-month period. These tolerances will expire and are revoked on December 31, 2003. Time-limited tolerances were originally published in the Federal Register on February 18, 1998 (63 FR 8134) (FRL-5767-8).

10. Propamocarb hydrochloride. EPA has authorized under FIFRA section 18 the use of propamocarb hydrochloride on tomatoes for control of late blight in California. This regulation extends a time-limited tolerance for residues of the fungicide propamocarb hydrochloride in or on tomatoes, tomato puree and tomato paste at 0.5, 1.0, and 3.0 ppm, respectively, for an additional 25½ months. This tolerance will expire and is revoked on December 31, 2003. Time-limited tolerances were originally published in the Federal Register on May 16, 1997 (62 FR 26960) (FRL-5717-5).

11. Cymoxanil. EPA has authorized under FIFRA section 18 the use of cymoxanil on hops for control of downy mildew in Oregon. This regulation extends a time-limited tolerance for residues of the fungicide cymoxanil in or on dried hops at 1.0 ppm for an additional 25½-months. These tolerances will expire and are revoked on December 31, 2003. Time-limited tolerances were originally published in the Federal Register on December 2, 1998 (63 FR 66459) (FRL-6038-5).

12. Imazamox. EPA has authorized under FIFRA section 18 the use of imazamox on dry bean for control of various weeds in Wisconsin, Montana, Nebraska, Wyoming, Colorado, Minnesota and North Dakota. This regulation extends a time-limited tolerance for residues of the herbicide imazamox, 2-[4,5-dihydro-4-methyl-4-(1methylethyl)-5-oxo-1H-imidazol-2-yl]-5-methoxymethyl-3-pyridine-carboxylic acid, applied as the free acid or ammonium salt in or on dry beans at 0.05 ppm for an additional 2-year, 5-month period. This tolerance will expire and is revoked on December 31, 2003. A time-limited tolerance was originally published on July 14, 1999 (64 FR 37855) (FRL-6086-5).

13. Fluroxypyr 1-methylheptyl ester. EPA has authorized under FIFRA section 18 the use of fluroxypyr 1-methylheptyl ester on field corn and sweet corn for control of volunteer potatoes in Washington, Oregon, Idaho, and Wisconsin. This regulation extends time-limited tolerances for residues of the herbicide fluroxypyr 1-methylheptyl ester ((4-amino-3,5-dichloro-6-fluoro-2-pyridinyl)oxy)acetic acid, 1-methylheptyl ester and it's metabolite fluroxypyr in or on corn, sweet, K + CWHR at 0.05 ppm; corn, sweet, forage at 2.0 ppm; corn, sweet, stover at 2.5 ppm; corn, field, grain at 0.05 ppm; corn, field, forage at 2.0 ppm; corn, field, stover at 2.5 ppm for an additional 2-year, 1-month period. These tolerances will expire and are revoked on December 31, 2003. Time-limited tolerances were originally published in the Federal Register on August 5, 1998 (63 FR 41727) (FRL-6018-4).

14. Tetraconazole. EPA has authorized under FIFRA section 18 the use of tetraconazole on sugarbeets for control of cercospora leafspot in Michigan, Montana, Colorado, Nebraska, and Wyoming. This regulation extends time-limited tolerances for residues of the fungicide tetraconazole (+/-)-2-(2,4-dichlorophenyl)-3-(1H-1,2,4-triazol-1-yl) propyl 1, 1,2,2-tetrafluoroethyl ether in or on sugarbeets, and sugarbeet-related commodities, and for secondary residues of triazole on animal commodities from livestock fed sugarbeet by-products at 0.10 ppm on sugarbeet, 6.0 ppm in sugarbeet top, 0.20 ppm in sugarbeet dried pulp, 0.30 ppm in sugarbeet molasses, 0.050 ppm in milk, 0.030 ppm in cattle, meat and meat byproducts except kidney and liver, 0.20 ppm in kidney, 6.0 ppm in liver, and 0.60 ppm in fat for an additional 2-years. These tolerances will expire and are revoked on December 31, 2003. Time-limited tolerances were originally published in the Federal Register on December 6, 1999 (64 FR 68046) (FRL-6384-1).

III. Objections and Hearing Requests

Under section 408(g) of the FFDCA, as amended by the FQPA, any person may file an objection to any aspect of this regulation and may also request a hearing on those objections. The EPA procedural regulations which govern the submission of objections and requests for hearings appear in 40 CFR part 178. Although the procedures in those regulations require some modification to reflect the amendments made to the FFDCA by the FQPA of 1996, EPA will continue to use those procedures, with appropriate adjustments, until the necessary modifications can be made. The new section 408(g) provides essentially the same process for persons to “object” to a regulation for an exemption from the requirement of a tolerance issued by EPA under new section 408(d), as was provided in the old FFDCA sections 408 and 409. However, the period for filing objections is now 60 days, rather than 30 days.

A. What Do I Need to Do to File an Objection or Request a Hearing?

You must file your objection or request a hearing on this regulation in accordance with the instructions provided in this unit and in 40 CFR part 178. To ensure proper receipt by EPA, you must identify docket control number OPP-301146 in the subject line on the first page of your submission. All requests must be in writing, and must be mailed or delivered to the Hearing Clerk on or before August 20, 2001.

1. Filing the request. Your objection must specify the specific provisions in the regulation that you object to, and the grounds for the objections (40 CFR 178.25). If a hearing is requested, the objections must include a statement of the factual issues(s) on which a hearing is requested, the requestor's contentions on such issues, and a summary of any evidence relied upon by the objector (40 CFR 178.27).

Information submitted in connection with an objection or hearing request may be claimed confidential by marking any part or all of that information as Confidential Business Information (CBI). Information so marked will not be disclosed except in accordance with procedures set forth in 40 CFR part 2. A copy of the information that does not contain CBI must be submitted for inclusion in the public record. Information not marked confidential may be disclosed publicly by EPA without prior notice.

Mail your written request to: Office of the Hearing Clerk (1900), Environmental Protection Agency, 1200 Pennsylvania Ave., NW., Washington, DC 20460. You may also deliver your request to the Office of the Hearing Clerk in Rm. C400, Waterside Mall, 401 M St., SW., Washington, DC 20460. The Office of the Hearing Clerk is open from 8 a.m. to 4 p.m., Monday through Friday, excluding legal holidays. The telephone number for the Office of the Hearing Clerk is (202) 260-4865.

2. Tolerance fee payment. If you file an objection or request a hearing, you must also pay the fee prescribed by 40 CFR 180.33(i) or request a waiver of that fee pursuant to 40 CFR 180.33(m). You must mail the fee to: EPA Headquarters Accounting Operations Branch, Office of Pesticide Programs, P.O. Box 360277M, Pittsburgh, PA 15251. Please identify the fee submission by labeling it “Tolerance Petition Fees.”

EPA is authorized to waive any fee requirement “when in the judgement of the Administrator such a waiver or refund is equitable and not contrary to the purpose of this subsection.” For additional information regarding the waiver of these fees, you may contact James Tompkins by phone at (703) 305-5697, by e-mail at tompkins.jim&epa.gov, or by mailing a request for information to Mr. Tompkins at Registration Division (7505C), Office of Pesticide Programs, Environmental Protection Agency, 1200 Pennsylvania Ave., NW., Washington, DC 20460.

If you would like to request a waiver of the tolerance objection fees, you must mail your request for such a waiver to: James Hollins, Information Resources and Services Division (7502C), Office of Pesticide Programs, Environmental Protection Agency, 1200 Pennsylvania Ave., NW., Washington, DC 20460.

3. Copies for the docket. In addition to filing an objection or hearing request with the Hearing Clerk as described in Unit III.A., you should also send a copy of your request to the PIRIB for its inclusion in the official record that is described in Unit I.B.2. Mail your copies, identified by docket control number OPP-301146, to: Public Information and Records Integrity Branch, Information Resources and Services Division (7502C), Office of Pesticide Programs, Environmental Protection Agency, 1200 Pennsylvania Ave., NW., Washington, DC 20460.

In person or by courier, bring a copy to the location of the PIRIB described in Unit I.B.2. You may also send an electronic copy of your request via e-mail to: opp-docket&epa.gov. Please use an ASCII file format and avoid the use of special characters and any form of encryption. Copies of electronic objections and hearing requests will also be accepted on disks in WordPerfect 6.1/8.0 file format or ASCII file format. Do not include any CBI in your electronic copy. You may also submit an electronic copy of your request at many Federal Depository Libraries.

B. When Will the Agency Grant a Request for a Hearing?

A request for a hearing will be granted if the Administrator determines that the material submitted shows the following: There is a genuine and substantial issue of fact; there is a reasonable possibility that available evidence identified by the requestor would, if established resolve one or more of such issues in favor of the requestor, taking into account uncontested claims or facts to the contrary; and resolution of the factual issues(s) in the manner sought by the requestor would be adequate to justify the action requested (40 CFR 178.32).

IV. Regulatory Assessment Requirements

This final rule establishes time-limited tolerances under FFDCA section 408. The Office of Management and Budget (OMB) has exempted these types of actions from review under Executive Order 12866, entitled Regulatory Planning and Review (58 FR 51735, October 4, 1993). This final rule does not contain any information collections subject to OMB approval under the Paperwork Reduction Act (PRA), 44 U.S.C. 3501 et seq., or impose any enforceable duty or contain any unfunded mandate as described under Title II of the Unfunded Mandates Reform Act of 1995 (UMRA) (Public Law 104-4). Nor does it require any special considerations under Executive Order 12898, entitled Federal Actions to Address Environmental Justice in Minority Populations and Low-Income Populations (59 FR 7629, February 16, 1994); or OMB review or any other Agency action under Executive Order 13045, entitled Protection of Children from Environmental Health Risks and Safety Risks (62 FR 19885, April 23, 1997). This action does not involve any technical standards that would require Agency consideration of voluntary consensus standards pursuant to section 12(d) of the National Technology Transfer and Advancement Act of 1995 (NTTAA), Public Law 104-113, section 12(d) (15 U.S.C. 272 note). Since tolerances and exemptions that are established under FFDCA section 408(l)(6) in response to an exemption under FIFRA section 18, such as the tolerances in this final rule, do not require the issuance of a proposed rule, the requirements of the Regulatory Flexibility Act (RFA) (5 U.S.C. 601 et seq.) do not apply. In addition, the Agency has determined that this action will not have a substantial direct effect on States, on the relationship between the national government and the States, or on the distribution of power and responsibilities among the various levels of government, as specified in Executive Order 13132, entitled Federalism (64 FR 43255, August 10, 1999). Executive Order 13132 requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” This final rule directly regulates growers, food processors, food handlers and food retailers, not States. This action does not alter the relationships or distribution of power and responsibilities established by Congress in the preemption provisions of FFDCA section 408(n)(4).

For these same reasons, the Agency has determined that this rule does not have any “tribal implications” as described in Executive Order 13175, entitled Consultation and Coordination with Indian Tribal Governments (65 FR 67249, November 6, 2000). Executive Order 13175, requires EPA to develop an accountable process to ensure “meaningful and timely input by tribal officials in the development of regulatory policies that have tribal implications.” “Policies that have tribal implications” is defined in the Executive Order to include regulations that have “substantial direct effects on one or more Indian tribes, on the relationship between the Federal government and the Indian tribes, or on the distribution of power and responsibilities between the Federal government and Indian tribes.” This rule will not have substantial direct effects on tribal governments, on the relationship between the Federal government and Indian tribes, or on the distribution of power and responsibilities between the Federal government and Indian tribes, as specified in Executive Order 13175. Thus, Executive Order 13175 does not apply to this rule.

V. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of this final rule in the Federal Register. This final rule is not a “major rule” as defined by 5 U.S.C. 804(2).

List of Subjects in 40 CFR Part 180

Environmental protection, Administrative practice and procedure, Agricultural commodities, Pesticides and pests, Reporting and recordkeeping requirements.

Dated: June 29,2001.
James Jones,
Director, Registration Division, Office of Pesticide Programs.

Therefore, 40 CFR chapter I is amended as follows:

PART 180—[AMENDED]

1. The authority citation for part 180 continues to read as follows:

Authority: 21 U.S.C. 321(q), 346(a) and 371.

§ 180.205 [Amended]

2. In § 180.205, in the table to paragraph (b), amend the entry for peas (dry) by revising the expiration/revocation date “ 11/15/01” to read “12/31/03.”

§ 180.416 [Amended]

3. In § 180.416, in the table to paragraph (b), amend the entry for canola by revising the expiration/revocation date “12/31/01” to read “12/31/03.”

§ 180.434 [Amended]

4. In § 180.434, in the table to paragraph (b), amend the entries for cranberries; dry beans; dry bean forage; and dry bean hay by revising the expiration/revocation date “12/31/01” to read “12/31/03.”

§ 180.443 [Amended]

5. In § 180.443, in the table to paragraph (b), amend the entries for hop cones, dried by revising the expiration/revocation date “12/31/01” to read “12/31/03” and amend the entries for artichoke and peppers (bell and non-bell) by revising the expiration/revocation date “7/31/02” to read “6/30/03.”

§ 180.449 [Amended]

6. In § 180.449, in the table to paragraph (b), amend the entry for basil by revising the expiration/revocation date “7/31/01” to read “12/31/03.”

§ 180.474 [Amended]

7. In § 180.474, in the table to paragraph (b), amend the entry for hops by revising the expiration/revocation date “12/31/01” to read “12/31/03.”

8. In § 180.480, the table to paragraph (b), by revising the following entries:

§ 180.480 Fenbuconazole; tolerance for residues.

* * * * *

(b)* * *

Commodity | Parts per million | Expiration/revocation Date
* * * * *
Cattle mbyp | 0.01 | 12/31/03
Cattle meat | 0.01 | 12/31/03
* * * * *
Goats, mbyp | 0.01 | 12/31/03
Goats, meat | 0.01 | 12/31/03
Grapefruit | 0.5 | 12/31/03
Grapefruit pulp, dried | 4.0 | 12/31/03
Grapefruit oil | 35 | 12/31/03
* * * * *
Hogs, mbyp | 0.01 | 12/31/03
Hogs, meat | 0.01 | 12/31/03
* * * * *
Horses, mybp | 0.01 | 12/31/03
Horses, meat | 0.01 | 12/31/03
* * * * *
Sheeps, mybp | 0.01 | 12/31/03
Sheeps, meat | 0.01 | 12/31/03

* * * * *

§ 180.482 [Amended]

9. In § 180.482, in the table to paragraph (b), amend the entries for grapes; longan; and lychee by revising the expiration/revocation date “12/31/01” to read “12/31/03”

§ 180.493 [Amended]

10. In § 180.493, in the table to paragraph (b), amend the entries for cantaloupe; cucumber; squash; and watermelon by revising the expiration/revocation date “9/30/01” to read “12/31/03.”

§ 180.499 [Amended]

11. In § 180.499, in the table to paragraph (b), amend the entries for tomatoes; tomato paste; and tomato puree by revising the expiration/revocation date “11/15/01” to read “12/31/03.”

§ 180.503 [Amended]

12. In § 180.503, in the table to paragraph (b), amend the entries for hops, dried, by revising the expiration/revocation date “10/15/01” to read “12/31/03.”

§ 180.508 [Amended]

13. In § 180.508, in the table to paragraph (b), amend the entry for beans, dry by revising the expiration/revocation date “7/15/01” to read “12/31/03.”

14. In § 180.535, the table to paragraph (b), is revised to read as follows:

§ 180.535 Fluroxypyr 1-methylheptyl ester; tolerances for residues.

* * * * *

(b)* * *

Commodity | Parts per million | Expiration/revocation date
Corn, field, forage | 2.0 | 12/31/03
Corn, field, grain | 0.05 | 12/31/03
Corn, field, stover | 2.5 | 12/31/03
Corn, sweet, forage | 2.0 | 12/31/03
Corn,sweet, K + CWHR | 0.05 | 12/31/03
Corn, sweet, stover | 2.5 | 12/31/03

* * * * *

15. In § 180.557, the table to paragraph (b), is revised to read as follows:

§ 180.557 Tetraconazole; tolerances for residues.

* * * * *

(b)* * *

Commodity | Parts per million | Expiration/revocation date
Beet, sugar, dried pulp | 0.20 | 12/31/03
Beet, sugar, molasses | 0.30 | 12/31/03
Beet, sugar, roots | 0.10 | 12/31/03
Beet, sugar, tops | 6.0 | 12/31/03
Cattle, fat | 0.60 | 12/31/03
Cattle, kidney | 0.20 | 12/31/03
Cattle, liver | 6.0 | 12/31/03
Cattle, meat | 0.030 | 12/31/03
Cattle, meat byproducts; except kidney and liver | 0.030 | 12/31/03
Milk | 0.050 | 12/31/03

* * * * *

[FR Doc. 01-18099 Filed 7-18-01; 8:45 am]

BILLING CODE 6560-50-S